DEPARTMENT OF HOUSING AND URBAN DEVELOPMENT

[Docket No. FR-7062-N-06]

Privacy Act of 1974; System of Records

AGENCY: Office of Chief Human Capitol Officer, Privacy Office, HUD.

ACTION: Notice of a rescindment of a system of record.

SUMMARY: The Single Family Insurance System—Claims Subsystem (CLAIMS) is operated to process single family insurance claims against defaulted loans the Federal Housing Administration insures. Pursuant to the provisions of the Privacy Act of 1974, as amended, the Department of the Housing and Urban Development (HUD) is issuing a public notice of its intent to rescind the Deputy Assistant Secretary for Finance and Budget, Federal Housing Administration, Single Family Post Insurance Division Privacy Act system of record, HSNG.SF/HWAA.02: Single Family Insurance System—Claims Subsystem (CLAIMS), due to the system not qualifying as a Privacy Act System of Record.

DATES: This System of Records rescindment is effective upon publication, July 22, 2022. The specific date for when this system ceased to be a Privacy Act System of Records is July 27, 2021.

ADDRESSES: You may submit comments, identified by docket number and title by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White, The Privacy Office; 451 Seventh Street SW, Room 10139; Washington, DC 20410-0001; telephone number 202-708-3054 (this is not a toll-free number). Individuals who are hearing- or speech-impaired may access this telephone number via TTY by calling the Federal Relay Service at 800-877-8339 (this is a toll-free number).

SUPPLEMENTARY INFORMATION: The Single Family Insurance System—Claims Subsystem (CLAIMS) was evaluated and identified for rescindment from the Finance and Budget Office of Housing Single Family Post Insurance Division Privacy Act systems of records inventory. The CLAIMS SORN was filed pursuant to the Department's Title II Claims Insurance Benefits Program. CLAIMS receives, edits, controls, monitors, and authorizes payment for all Single Family mortgage insurance claims benefits to FHA approved Mortgagees for loans HUD insures. The latest SORN for CLAIMS was published in the Federal Register on February 26, 2014. The SORN retrieval practice was evaluated, and it was determined that records within the system are not retrieved by an individual's personal unique identifier including name. CLAIMS records are maintained and retrieved by the Federal Housing Administration (FHA) Case Number; this retrieval practice does not constitute a retrieval for purpose of the Privacy Act. Thus, the CLAIMS SORN is being rescinded. Records collected and used for claims insurance benefits filed by FHA-approved mortgagees will continue to be maintained by CLAIMS.

SYSTEM NAME AND NUMBER:

HSNG.SF/HWAA.02, Single Family Insurance System—Claims Subsystem (CLAIMS).

HISTORY:

HSNG.SF/HWAA.02: 79 FR 10827 (February 26, 2014).

HUD/SFH-02: 72 FR 65348 (November 20, 2007).

LaDonne White,
Departmental Privacy Officer.

[FR Doc. 2022-15704 Filed 7-21-22; 8:45 am]

BILLING CODE P